ENVIRONMENTAL PROTECTION AGENCY

40 CFR Part 300

[EPA-HQ-SFUND-1990-0011; FRL-9980-64—Region 5]

National Oil and Hazardous Substances Pollution Contingency Plan; National Priorities List: Partial Deletion of the Beloit Corporation Superfund Site

AGENCY: Environmental Protection Agency.

ACTION: Direct final rule.

SUMMARY: The Environmental Protection Agency (EPA) Region 5 is publishing a direct final Notice of Deletion of the Research Center Property (RCP) of the Beloit Corporation Superfund Site (Site), in Rockton, Illinois from the National Priorities List (NPL). This partial deletion includes all media at the 20-acre RCP. The rest of the Site remains on the NPL and is not affected by this action. The NPL, promulgated pursuant to Section 105 of the Comprehensive Environmental Response, Compensation, and Liability Act (CERCLA) of 1980, as amended, is an appendix of the National Oil and Hazardous Substances Pollution Contingency Plan. EPA is publishing this direct final partial deletion with the concurrence of the State of Illinois because all appropriate response actions at the RCP under CERCLA have been completed, other than maintenance, monitoring and five-year reviews. However, this partial deletion does not preclude future actions under Superfund.

DATES: This direct final partial deletion is effective September 14, 2018 unless EPA receives adverse comments by August 15, 2018. If adverse comments are received, will publish a timely withdrawal of the direct final partial deletion in the Federal Register informing the public that the partial deletion will not take effect.

ADDRESSES: Submit your comments, identified by Docket ID No. EPA-HQ-SFUND-1990-0011, by one of the following methods: http://www.regulations.gov. Follow the on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Email: cano.randolph@epa.gov.

Mail: Randolph Cano, NPL Deletion Coordinator, U.S. Environmental Protection Agency Region 5 (SR-6J), 77 West Jackson Boulevard, Chicago, IL 60604, (312) 886-6036.

Hand deliver: Superfund Records Center, U.S. Environmental Protection Agency Region 5, 77 West Jackson Boulevard, 7th Floor South, Chicago, IL 60604, (312)886-0900. Such deliveries are only accepted during the Record Center's normal hours of operation, and special arrangements should be made for deliveries of boxed information. The normal business hours are Monday through Friday, 8 a.m. to 4 p.m., excluding Federal holidays.

Instructions: Direct your comments to Docket ID No. EPA-HQ-SFUND-1990-0011. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in hard copy. Publicly available docket materials are available either electronically in http://www.regulations.gov or in hard copy at:

U.S. Environmental Protection Agency, Region 5, Superfund Records Center, 77 West Jackson Boulevard, 7th Floor South, Chicago, IL 60604, Phone: (312) 886-0900, Hours: Monday through Friday, 8 a.m. to 4 p.m., excluding Federal holidays.

Talcott Free Library, 101 East Main Street, Rockton, IL 61072, Phone: (815) 624-7511, Hours: Monday, Tuesday and Thursday, 9:00 a.m. to 8:00 p.m., Wednesday and Friday 9:00 a.m. to 5:30 p.m., and Saturday 9:00 a.m. to 3:00 p.m.

FOR FURTHER INFORMATION CONTACT: Randolph Cano, NPL Deletion Coordinator, U.S. Environmental Protection Agency Region 5 (SR-6J), 77 West Jackson Boulevard, Chicago, IL 60604, (312) 886-6036, or via email at cano.randolph@epa.gov.

SUPPLEMENTARY INFORMATION:

Table of Contents

I. Introduction

II. NPL Deletion Criteria

III. Partial Deletion Procedures

IV. Basis for Site Partial Deletion

V. Partial Deletion Action

I. Introduction

EPA Region 5 is publishing this direct final Notice of Partial Deletion for the Beloit Corporation (Beloit Corp.) Site (Site), from the National Priorities List (NPL). This partial deletion pertains to the Former Beloit Corp. Research Center Property portion of the Site, PIN 03-12-452-003, located at 1155 Prairie Hill Road, Rockton, Illinois. The NPL constitutes Appendix B of 40 CFR. Part 300 which is the National Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). This partial deletion of the Beloit Corp. Site is proposed in accordance with 40 CFR 300.425(e) and is consistent with the Notice of Policy Change: Partial Deletion of Sites Listed on the National Priorities List. 60 FR 55466 (Nov. 1, 1995). As described in § 300.425(e)(3) of the NCP, a portion of a site deleted from the NPL remains eligible for Fund-financed remedial action if future conditions warrant such actions.

Section II of this document explains the criteria for deleting sites from the NPL. Section III discusses the procedures that EPA is using for this action. Section IV discusses the Former Beloit Corp. Research Center Property, PIN 03-12-452-003 of the Beloit Corp. Superfund Site and demonstrates how it meets the deletion criteria. Section V discusses EPA's action to partially delete this portion of the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required,

ii. All appropriate Fund-financed response under CERCLA has been implemented, and no further response action by responsible parties is appropriate; or

iii. The remedial investigation has shown that the release poses no significant threat to public health or the environment and, therefore, the taking of remedial measures is not appropriate.

Pursuant to CERCLA Section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Partial Deletion Procedures

The following procedures apply to the deletion of the Former Beloit Corp. Research Center Property, PIN 03-12-452-003 of the Beloit Corp. Site:

(1) EPA has consulted with the State of Illinois prior to developing this direct final Notice of Partial Deletion and the Notice of Intent for Partial Deletion published in the “Proposed Rules” section of the Federal Register.

(2) EPA has provided the State thirty (30) working days for review of this action and the parallel Notice of Intent for Partial Deletion prior to their publication today, and the State, through the Illinois Environmental Protection Agency (IEPA), has concurred on the partial deletion of the Site from the NPL.

(3) Concurrent with the publication of this direct final Notice of Partial Deletion, a notice of the availability of the parallel Notice of Intent for Partial Deletion is being published in two major local newspapers, the Rockton Herald and the Rockford Register Star. The newspaper notices announce the 30-day public comment period concerning the Notice of Intent for Partial Deletion of the Site from the NPL.

(4) EPA placed copies of documents supporting the partial deletion in the deletion docket and made these items available for public inspection and copying at the Site information repositories identified in the ADDRESSES Section of this rule.

(5) If adverse comments are received within the 30-day public comment period on this partial deletion action, EPA will publish a timely notice of withdrawal of this direct final Notice of Partial Deletion in the Federal Register before its effective date and will prepare a response to comments and continue with the deletion process on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Partial Site Deletion

The following information provides EPA's rationale for deleting the Former Beloit Corp. Research Center Property, PIN 03-12-452-003, of the Beloit Corp. Site from the NPL:

Site Background and History

The Beloit Corp. Site (CERCLIS ID ILD021440375) is located in Rockton, Winnebago County, Illinois. The Site consists of one, site-wide operable unit. The Site includes the approximately 200-acre former Beloit Corp. property and additional adjacent areas, including the Blackhawk Acres residential subdivision, and other industrial properties adjacent to the subdivision, including the former Soterion/United Recovery facility, a portion of the Taylor, Inc. property and the Safe-T-Way property. The Site is bound on the north by Prairie Hill Road, on the west by the Rock River, on the south by a line projected from the Rock River along the south edge of a Village of Rockton easement and access road to Blackhawk Boulevard, and on the east by Blackhawk Boulevard. See Figures 1 and 2 in Maps—Beloit Corp. Site and Area for Partial Deletion, Docket Document ID No. EPA-HQ-SFUND-1990-0011-0286 in the Docket.

The Beloit Corp. used approximately 20 acres of its 200-acre property for a research center (the Former Beloit Corp. Research Center Property), and 55 acres for a manufacturing plant, a wastewater treatment plant and lagoons, a gravel pit, and parking and outdoor storage areas. The Beloit Corp. used about 39 acres of open field south of its manufacturing and storage areas for foundry sand disposal and fibrous sludge spreading. About 86 heavily wooded acres of the Beloit Corp. property located west and south of the operations areas remain vacant and are within a backwater and floodplain area of the Rock River.

The Beloit Corp. property is divided into several parcels of land and has been redeveloped. The northern parcel of the Site is the location of the Former Beloit Corp. Research Center, PIN 03-12-452-003, and is the property EPA is deleting from the Site (see Property Map for 03-12-452-003 in Maps—Beloit Corp. Site and Area for Partial Deletion, Docket Document ID EPA-HQ-SFUND-1990-0011-0286 in the Docket). This property is approximately 20.757 acres and is owned by the Rock River Land Development Company (Rock River). The address for this property is 1155 Prairie Hill Road, Rockton, Illinois. The property is zoned for heavy industrial use and is occupied by Andritz Paperchine, a supplier of papermaking technology.

The remaining western and southern parcels of the former Beloit Corp. property are owned by Lubrizol Holding, Inc. (Lubrizol) and are not being deleted as part of this action. These parcels include the locations of the former Beloit Corp. manufacturing building, the former Beloit Corp. wastewater treatment plant and lagoons, the vacant fields, woods and floodplain areas, EPA's groundwater extraction and treatment system cleanup remedy, and the majority of EPA's groundwater monitoring well network (former Beloit Corp. Manufacturing Property). The PINs for these properties are 03-13-201-002, 03-12-452-002, 03-12-376-001, 03-13-126-001, 03-13-176-004. These parcels are also zoned for heavy industrial use. This part of the Site is occupied by Chemtool Inc. (Chemtool) and is used to manufacture specialized industrial lubricants. The address for the portion of the Site remaining on the NPL is 1165 Prairie Hill Road, Rockton, Illinois.

The Beloit Corp. property was farmland until Beloit Corp. purchased it in 1957. The property has been used for industrial purposes since 1957. Beloit Corp. manufactured machines at the Site that produced layered paper products from paper pulp. Beloit Corp. used solvents at its plant for parts cleaning operations. Beloit Corp. used petroleum-based, non-chlorinated solvents until the mid-1970s, and chlorinated solvents from the mid-1970s until 1983. The exact composition of the chlorinated solvents and the amounts Beloit Corp. used are unknown. Beloit Corp. used mineral spirits for metal degreasing and parts cleaning from 1983 until the facility closed in 1999.

IEPA began investigating potential contamination on the Beloit Corp. property and in the surrounding area in the 1980s. In 1986, IEPA sampled residential wells in the Blackhawk Acres subdivision adjacent to the Beloit Corp. facility. Sixteen of the 55 private drinking water wells that were sampled were contaminated.

IEPA's investigations determined that the most likely source of the groundwater contamination in the Blackhawk Acres subdivision was the Beloit Corp. EPA proposed the Beloit Corp. property and the surrounding area to the NPL as the Beloit Corp. Superfund Site on June 24, 1988 (53 FR 23988). EPA finalized listing the Beloit Corp. Site on the NPL on August 30, 1990 (55 FR 35502).

Beloit Corp. entered into a Consent Decree with IEPA in 1991 to conduct a Remedial Investigation (RI) and Feasibility Study (FS) at the Site. The RI found that the groundwater is contaminated with volatile organic compounds (VOCs) including tetrachloroethene (PCE), 1,1,1-tricloroethane (1,1,1-TCA), and trichloroethene (TCE).

In 1993, IEPA determined that three residential wells in the Blackhawk Acres subdivision contained TCE in groundwater above the Maximum Contaminant Level (MCL) established under the Safe Drinking Water Act. IEPA subsequently fitted these three residential wells contaminated above the MCL with carbon filtration systems plus IEPA fitted a fourth residential well with a carbon filtration system. The filtration systems continue to be maintained by IEPA. In 1999, IEPA connected a fifth residence with contaminated well water to the Rockton municipal water supply when the contamination was discovered in 1998.

The highest area of groundwater contamination is located under the southern area of the Erection Bay section of the Beloit Corp. manufacturing building. The primary groundwater contaminant in this area is PCE. The PCE contamination is believed to be due to the discharge of VOCs to the ground surface before Beloit Corp. constructed the Erection Bay over this area in 1989. The groundwater contamination is in the upper aquifer and generally flows from north to south. The groundwater contamination does not impact the Former Beloit Corp. Research Center Property, which is upgradient of the contaminant plume and EPA is deleting from the NPL in this action.

IEPA issued an Action Memorandum to Beloit Corp. in 1996 to implement an Interim Source Control Action (ISCA) at the Site. The Action Memorandum required immediate measures to control the high levels of VOC groundwater contamination near the Beloit Corp. manufacturing building.

Beloit Corp. conducted an Engineering Evaluation/Cost Analysis (EE/CA) to evaluate potential ISCA alternatives. The non-time critical removal action objectives developed in the EE/CA were to: Limit the potential for the migration of VOCs in groundwater at the Site through the installation of a groundwater containment system; initiate the removal of VOCs from the groundwater at the source area (the vicinity of the Erection Bay and groundwater monitoring well W23); install and operate an appropriate treatment system for groundwater generated by the containment system to limit unacceptable discharges or emissions; and dispose of waste streams from the action.

IEPA selected a groundwater pump and treat system as the ISCA. Beloit Corp. developed a Removal Action Design Report and constructed the groundwater extraction and treatment system in 1996. The pump and treat system consists of four extraction wells and an air stripper tower adjacent to the southwest corner of the Beloit Corp. manufacturing building on PIN 03-13-201-002. This system is currently operated by IEPA. The treated groundwater is discharged to the Rock River at an outfall located on Beloit Corp.'s former wastewater treatment plant and lagoons property, PIN 03-12-452-002, under a National Pollutant Discharge Elimination System (NPDES) permit.

Beloit Corp. filed for bankruptcy in 1999. As part of the bankruptcy, the court entered an order which, among other things, transferred the ownership of Beloit Corp.'s assets and liabilities, including the Beloit Corp. property, to the Beloit Liquidating Trust (the Trust). The ownership of the Beloit Corp. property then transferred to Giuffre II, LLC (Giuffre). The United States and Giuffre signed a settlement agreement in February 2002 under section 122(h) of CERCLA (the section 122(h) Agreement). The State of Illinois was also a party to the settlement agreement. The State of Illinois signed the agreement in April 2002.

The section 122(h) Agreement settled and resolved the potential liability of Giuffre resulting from its ownership and/or operation of the Beloit Corp. property. The purpose of the section 122(h) Agreement was to facilitate the cleanup of the Site and the reuse of the property.

On March 18, 2003, Giuffre sold the Former Beloit Corp. Research Center Property portion of the Site (the part of the Site being deleted as part of this action, outside the area of groundwater contamination) to PPC Investment Group LLC (PPC). PPC leased the property to Paperchine. PPC sold the Former Beloit Corp. Research Center Property to Rock River on January 5, 2015. Rock River continues to lease the Property to Paperchine (now known as Andritz Paperchine).

Giuffre deeded the remaining areas of the former Beloit Corp. property (i.e., the Former Beloit Corp. manufacturing building, former wastewater treatment plant and lagoons, parking and storage areas and vacant/floodplain areas) to Rock River on January 31, 2008. Rock River subsequently leased this property to Chemtool. Lubrizol acquired Chemtool and purchased the remaining former Beloit Corp. property on August 30, 2013. Lubrizol continues to operate at the Site as Chemtool.

This partial deletion pertains to all media at the approximately 20.757-acre Former Beloit Corp. Research Center Property portion of the Beloit Corp. Site, PIN 03-12-452-003, located at 1155 Prairie Hill Road, Rockton, Illinois (see Property Map for 03-12-452-003 in Maps—Beloit Corp. Site and Area for Partial Deletion, Docket Document ID EPA-HQ-SFUND-1990-0011-0286 in the Docket).

Remedial Investigation and Feasibility Study (RI/FS)

Beloit Corp. conducted the RI in four phases between 1992 and 1998. The Phase I and II investigations identified and investigated the source area(s) of the VOCs at the Site. The Phase III investigation determined the extent of the VOC groundwater contamination. The Phase IV investigation evaluated potential sources of a deeper TCE contaminant plume in the upper aquifer in wells in the southern portion of the Beloit property, the southern Blackhawk Acres subdivision and in the Village of Rockton. The Phase IV investigation also evaluated whether VOCs detected at a home in the Blackhawk Acres subdivision were migrating from an upgradient source area, and determined what effect the ISCA pump and treat system was having on groundwater in the southern portion of the Blackhawk Acres subdivision.

The RI investigated the former Beloit Corp. foundry sand disposal area, former on-Site wastewater treatment plant (WWTP) lagoons, fibrous sludge spreading area where sludge from WWTP lagoons was applied, storage yard area, Erection Bay, chip pad, former dry well, welding area, loading dock, paint room, a nearby gravel pit, the Blackhawk Acres subdivision, the Rock River and the wetlands west of the Beloit Corp. operations areas, Rockton Excavating's property, the Village of Rockton, and the Soterion property.

The RI determined that the primary groundwater contamination at the Site originates under the southern area of the Erection Bay section of the Beloit Corp. manufacturing building. This area is located on PIN 03-13-201-002 within the Former Beloit Corp. Manufacturing Property, not the Former Beloit Corp. Research Center Property. The groundwater contamination is located in the shallow zone of the upper aquifer, from the water table, which is about 20 feet below ground surface (ft-bgs), to a depth of approximately 60 ft-bgs. The groundwater contamination flows generally from north to south, off-Site and away from the Former Beloit Corp. Research Center Property.

The groundwater contamination is believed to be due to the discharge of VOCs to the ground surface in this area before Beloit Corp. constructed the Erection Bay over this location in 1989. Soil and soil gas sampling in this area during the RI and during an additional Source Area Investigation in 2007, however, could not find any significant residual levels of VOCs in any unsaturated soil at the Site, including below the floor of the Erection Bay building.

The RI found a plume of deeper groundwater contamination at the Site in the upper aquifer near the southeast corner of the Former Beloit Corp. Manufacturing Property. This groundwater contamination also flows off-Site, towards Rockton and the Rock River. This groundwater contamination is also downgradient of, and flows away from the Former Beloit Corp. Research Center Property.

The groundwater in the deeper plume is contaminated primarily with TCE and is found at a depth of approximately 70 ft-bgs. The source of the deeper, TCE Plume could not be located, but is believed to be in the vicinity of groundwater monitoring wells W26C and W18, near the southeast corner of the Former Beloit Corp. Manufacturing Property and the northwest corner of the Soterion facility. Extensive sampling of the soils and groundwater in these areas did not indicate the presence of residual TCE in the soils. The groundwater data however, provides evidence that a historical release of TCE occurred in this area, even though the source has since dissipated.

The only structure on the Former Beloit Corp. Research Center Property (the part of the Site that is being deleted) that was operated by Beloit Corp. was its research center. Beloit Corp. built the research center in 1960 and used the building to design and demonstrate its papermaking machines.

Beloit Corp. conducted a Feasibility Study (FS) to evaluate cleanup alternatives to address the groundwater contamination at the Site. The FS did not develop cleanup alternatives to address other Site media because the baseline risk assessment did not identify any unacceptable risks associated with exposure to the other media including surface and subsurface soil, dust, vapor, surface water or sediment.

Selected Remedy

EPA's and IEPA's remedial action objectives for the Site are to: Prevent exposure to contaminated groundwater; prevent or minimize further migration of the contaminated groundwater plumes located at and downgradient of the Beloit Corp. manufacturing building; and to remediate the contaminated groundwater to the more stringent of either the MCLs or applicable State of Illinois Groundwater Quality Standards (35 IAC Part 620), including 35 IAC Part 620.410 Class I Groundwater Quality Standards for Class I Potable Resource Groundwater, or 35 IAC Part 620.450 Alterative Groundwater Quality Standards.

The only remedial alternative EPA and IEPA considered for the Former Beloit Corp. Research Center Property was institutional controls (ICs). EPA and IEPA did not evaluate an active groundwater remedy for the Former Beloit Corp. Research Center Property because the RI determined that the groundwater in this area of the Site was not contaminated.

EPA and IEPA issued a Record of Decision (ROD) for the Site in 2004. The ROD selected a cleanup remedy for the Site which included: Continued operation and monitoring of the groundwater pump and treat ISCA system located on the Former Beloit Corp. Manufacturing Property; VOC source area treatment on the Former Beloit Corp. Manufacturing Property by in-situ chemical oxidation; monitored natural attenuation to address the off-property and off-Site groundwater contamination; and ICs.

The only remedy component applicable to the Former Beloit Corp. Research Center Property in the ROD is the ICs. The ICs would be in the form of a restrictive covenant and would prohibit the use of shallow groundwater on the Beloit Corp. property (i.e., the Former Beloit Corp. Manufacturing Property and the Former Beloit Corp. Research Center Property) for potable purposes until the drinking water standards in the groundwater are attained. The ROD specifies that the current facilities at the Beloit Corp. property use groundwater from a lower groundwater aquifer that is not affected by the VOC contamination, and that this deeper groundwater can continue to be used.

IEPA conducted additional investigations in the former manufacturing plant source area of the Site in 2006 for the remedial design. IEPA's investigations indicated that the source area of the groundwater contamination is larger than previously indicated (but not on the Former Beloit Corp. Research Center Property), and that the aquifer material is not conducive to in-situ chemical treatment.

EPA and IEPA issued an Explanation of Significant Differences (ESD) in 2007 modifying the Site remedy. The ESD changed the treatment component of the remedy from in-situ chemical oxidation to installing one or more additional extraction wells south and southeast of the Erection Bay on the Former Beloit Corp. Manufacturing Property. The new extraction wells would capture additional groundwater contamination. The groundwater from the additional wells would be conveyed to the existing ISCA air-stripper for treatment and discharged to the Rock River under the NPDES permit. The ESD also included pneumatic fracturing at the additional extraction well locations to loosen up the soil to increase the effectiveness of the new wells.

The ESD did not alter the conclusion that the southern area of the Erection Bay in the manufacturing plant area of the Former Beloit Corp. Manufacturing Property is the primary source of the groundwater contamination at the Site. The ESD did not change the IC component for the Former Beloit Corp. Research Center Property or require any additional remedial action for the Former Beloit Corp. Research Center Property.

The ROD as modified by the ESD, requires: (1) The continued operation of the existing groundwater pump and treat ISCA system at the source area on the Former Beloit Corp. Manufacturing Property (not on the Former Beloit Corp. Research Center Property); (2) installing additional extraction wells in the source area on the Former Beloit Corp. Manufacturing Property (not on the Former Beloit Corp. Research Center Property); (3) groundwater monitoring; (4) operating and maintaining (O&M) the ISCA pump and treat system on the Former Beloit Manufacturing Property (not on the Former Beloit Corp. Research Center Property), and (5) implementing ICs to prohibit the withdrawal of the shallow groundwater for potable use.

Response Actions

IEPA completed the remedial action to expand and increase the effectiveness of the 1996 groundwater pump and treat system on the Former Beloit Manufacturing Property in 2008. IEPA expanded the groundwater pump and treat building to accommodate the increase in the volume of extracted groundwater, installed three new groundwater extraction wells, and shut down one extraction well (EW01) to adjust the zone of groundwater extraction to better target the source area.

IEPA conducted pneumatic fracturing at the three additional extraction well locations to increase the volume of water pumped out by the extraction wells in the source area. IEPA connected the new extraction wells to the groundwater treatment system and tested the system to ensure it was properly operating. EPA documented the completion of the remedial action construction activities in a September 29, 2008 PCOR (Docket Document ID EPA-HQ-SFUND-1990-0011-0260).

Cleanup Levels

The cleanup levels for the groundwater contaminants at the Beloit Corp. Site are federal MCLs and/or Illinois Class I standards, whichever are more stringent. The RI determined that the groundwater below the Former Beloit Corp. Research Center Property is upgradient of, and is not affected, by the groundwater contamination at the Site, and that the groundwater below the Research Center Property already meets the cleanup levels for the Site.

IEPA conducted an updated hydraulic capture zone analysis of the expanded groundwater extraction system in 2013. The updated capture zone analysis further confirms that the VOC-contaminated groundwater originating from the former Erection Bay source area is being captured and treated by the expanded ISCA pump and treat system, and is not affecting the Former Beloit Corp. Research Center Property. The results of the capture zone analysis are provided in the Task 1 Follow-Up Activities to the Five-Year Review Report, June 2014 (Docket Document ID EPA-HQ-SFUND-1990-0011-0269).

Annual VOC sampling of a deep, water supply well located on the Former Beloit Corp. Research Center Property (well WW441K) also confirms that the groundwater in the lower aquifer below the Former Beloit Corp. Research Center Property has not been affected by Site contamination. Well WW441K is located in the lower aquifer, which is separated from the upper aquifer by approximately 40 feet of silty clay. The well is screened from 175 to 185 ft-bgs and from 225 to 235 ft-bgs, and is approximately 100 feet deeper than the deepest contamination detected at the Site.

Well WW441K is used to supply water for employee toilets and sink uses, and for limited cleaning purposes. The Illinois Department of Public Health requires the well to be sampled annually for VOCs and for other contaminants as scheduled (Water System ID IL3121418). The VOC analytical results for 2012 through 2017 for WW441K show no detected VOCs. The 2013 analyses of pesticides, herbicides, semi-volatile organic compounds and metals show no detectable organics and metals concentrations below drinking water standards in the water.

A second, deeper water supply well is located on the Former Beloit Corp. Research Center Property (WW441L). Well WW441L is an open borehole well from 330 ft-bgs to 554 ft-bgs and is maintained as a backup well for fire protection. Based on other Site information and data, well WW441L is also not expected to be impacted by Site-related contamination. Additional information about wells WW441K and WW441L is provided in the Technical Memorandum: Paperchine Investment Group LLC Water Supply Wells at Beloit Corp. NPL Site, June 2017, Docket Document ID EPA-HQ-SFUND-1990-0011-0284.

Operation and Maintenance (O&M)

The only O&M required for the Former Beloit Corp. Research Center Property is to maintain and monitor upgradient groundwater monitoring wells on the property as needed, and to maintain, monitor and enforce the ROD-required IC.

PPC filed a Uniform Environmental Covenant, pursuant to the Illinois Uniform Environmental Covenants Act [UECA, 765 Illinois Compiled Statutes (ILCS) 122] on the Former Beloit Corp. Research Center Property, PIN 03-12-452-003, with the Winnebago County Recorder's Office on February 7, 2013, Instrument 20131006292. A copy of the recorded Environmental Covenant (EC) is in Docket Document ID EPA-HQ-SFUND-1990-0011-0276 in the Docket.

PPC's EC: (1) Restricts or limits the use of the land to industrial land use; (2) prohibits the construction of new or non-existing wells or consumptive use of the groundwater underlying the property; (3) prohibits any activity that may interfere with or would affect the integrity or the configuration of the RA at the Site, or the operation and maintenance of any RA component; and (4) grants authorized representatives of IEPA and EPA the right to enter and have continued access to the Site at reasonable times to perform the RA. The covenant “runs with the land” and remains in effect until the contaminated groundwater at the Site is restored to the more stringent of either the federal MCLs or State of Illinois Class I groundwater standards for all contaminants of concern. Similar ICs will be placed on the Former Beloit Corp. Manufacturing Property. IEPA is also in the process of establishing a Groundwater Management Zone to prevent the use of contaminated groundwater in other Site areas beyond the former Beloit Corp. property.

Other O&M at the Site includes IEPA's operation of the groundwater treatment system on the Former Beloit Corp. Manufacturing Property and semi-annual groundwater monitoring at 21 groundwater monitoring locations. Eight of the groundwater monitoring locations have nested wells screened at different elevations within the aquifer to monitor the groundwater at different depths. IEPA's groundwater monitoring indicates that the contaminant plume has stabilized and that the contaminated groundwater is not moving off-Site. IEPA samples nearby residential wells every two years to ensure that the groundwater containment system continues to be protective. The concentrations of contaminants in private residential wells have been below MCLs since 2001.

Five-Year Review

EPA and IEPA conducted the first statutory five-year review (FYR) at the Beloit Corp. Site under Section 121(c) of CERCLA on September 27, 2013. A FYR evaluates whether the remedial action at a site remains protective of human health and the environment at sites where contaminants remain on-site at levels that do not allow for unlimited use and unrestricted exposure.

The FYR Report determined that a protectiveness determination could not be made at the Site without further information to assess the potential for vapor intrusion into nearby residences and commercial properties, and updated groundwater modeling. The issues and recommendations in the FYR Report did not apply to the Former Beloit Corp. Research Center Property, which is upgradient from the source area of the groundwater contamination at the Site and is not subject to vapor intrusion concerns.

IEPA conducted a vapor intrusion assessment and updated the Site groundwater model to address the issues in the FYR Report. The vapor intrusion assessment determined that the Site does not pose a risk to Site workers or nearby residents through the vapor intrusion pathway. The updated Site groundwater model capture zone analysis demonstrates that the groundwater contamination in the Former Beloit Corp. Manufacturing Property source area of the Site is being captured and treated by the expanded groundwater pump and treat system required by the 2007 ESD.

EPA issued a FYR Addendum documenting that the Site is currently protective of human health and the environment on January 25, 2018. The FYR Addendum also determined that in order for the Site to be protective over the long-term an EC must be implemented on the Former Beloit Corp. Manufacturing Property, a GMZ must be implemented in Site areas beyond the Former Beloit Corp. property, and an institutional controls action plan and long-term stewardship plan for monitoring and maintaining ICs need to be implemented. The next FYR is scheduled to be completed by September 27, 2018.

Community Involvement

EPA and IEPA satisfied public participation activities for the Site required in CERCLA Section 113(k), 42 U.S.C. 9613(k), and CERCLA Section 117, 42 U.S.C. 9617. IEPA has actively engaged the Rockton community about the Beloit Corp. Superfund Site since the 1980s. IEPA held public meetings and availability sessions about the Site throughout the RI/FS at the Talcott Free Library and the Hononegah High School. These forums allowed citizens, local officials and the media to learn about the Site, ask questions and express their concerns directly to IEPA community involvement and technical staff. IEPA announced all meetings and availability sessions to the public in local newspaper advertisements and IEPA fact sheets prior to the meetings.

IEPA developed and distributed four fact sheets about the Site throughout the RI/FS. The fact sheets provided information about the residential well sampling, the environmental investigations, Site updates, public meeting announcements, the proposed plan, new documents and reports added to the information repository, the start and completion of cleanup actions, schedule delays and the establishment of the Administrative Record.

IEPA published three weekly notices about its proposed cleanup plan for the Site in the Rockton Herald in 2004 prior to issuing the ROD. The notices included information about the 30-day public comment period and the public meeting. IEPA mailed a proposed plan fact sheet summarizing the proposed cleanup plan and the other cleanup alternatives that were considered, to citizens, the media, and local officials prior to selecting a final cleanup plan in the 2004 ROD. The fact sheet also announced and included information about the public comment period and the public meeting. IEPA extended the public comment period for the proposed plan period by 30 days in response to a citizen request. IEPA responded to 26 questions and comments about the Site and the proposed cleanup plan in a responsiveness summary that is attached to the ROD.

IEPA published a notice announcing the 2013 FYR and inviting the public to comment and express their concerns about the Site at the start of the FYR. IEPA published these notices in the Rockton Herald and the Rockford Register Star.

EPA published notices announcing this proposed Direct Final Partial Deletion in the Rockton Herald and the Rockford Register Star prior to publishing this deletion in the Federal Register. Documents in the deletion docket which EPA relied on to support this partial deletion of the Site from the NPL are available to the public in the information repositories and at http://www.regulations.gov.

Determination That the Criteria for Deletion Have Been Met

The Former Beloit Corp. Research Center Property portion of the Beloit Corp. Site, PIN 03-12-452-003, meets all of the site deletion requirements specified in Office of Solid Waste and Emergency Response (OSWER) Directive 9320.22, Close-Out Procedures for National Priorities List Sites. All cleanup actions for this property required by the 2004 ROD and 2007 ESD (i.e., the IC) have been implemented. The RI determined that the groundwater below the Former Beloit Corp. Research Center Property is upgradient of, and is not affected, by the groundwater contamination at the Site, and that the groundwater below the Former Beloit Corp. Research Center Property already meets cleanup levels. IEPA's updated capture zone analysis in 2013, and sampling at the deep, water supply well in the lower aquifer on the property required by the Illinois Department of Public Health, provide additional confirmation that the groundwater below the Former Beloit Corp. Research Center Property is not contaminated and that this portion of the Site does not pose a threat to human health or the environment. Therefore, EPA has determined that no further Superfund response is necessary to protect human health or the environment at the Former Beloit Corp. Research Center Property.

The NCP (40 CFR 300.425(e)) states that a Superfund site or a portion of a site may be deleted from the NPL when no further response action is appropriate. EPA, in consultation with the State of Illinois, has determined that all required response actions have been implemented at the Former Beloit Corp. Research Center Property portion of the Beloit Corp. Site, PIN 03-12-452-003, and that no further response action by the responsible parties is appropriate on this property.

V. Partial Deletion Action

EPA, with concurrence of the State of Illinois through the IEPA, has determined that all appropriate response actions under CERCLA at the Former Beloit Corp. Research Center Property, PIN 03-12-452-003, other than maintenance and monitoring of groundwater monitoring wells and ICs, and five-year reviews, have been completed. Therefore, EPA is deleting the Former Beloit Corp. Research Center Property, PIN 03-12-452-003, of the Beloit Corp. Site from the NPL.

Because EPA considers this action to be noncontroversial and routine, EPA is taking it without prior publication. This action will be effective September 14, 2018 unless EPA receives adverse comments by August 15, 2018. If adverse comments are received within the 30-day public comment period, EPA will publish a timely withdrawal of this direct final Notice of Partial Deletion before the effective date of the partial deletion and it will not take effect. EPA will prepare a response to comments and continue with the deletion process on the basis of the Notice of Intent to Partially Delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: June 25, 2018.
Cathy Stepp,
Regional Administrator, Region 5.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by revising the listing under Illinois for “Beloit Corp.” to read as follows:

Appendix B to Part 300—National Priorities List

Table 1—General Superfund Section
State | Site name | City/county | Notes (a)
* * * * * * *
IL | Beloit Corp. | Rockton | P
* * * * * * *

(a) * * *

* * * * *

P = Sites with partial deletion(s).

* * * * *

[FR Doc. 2018-15144 Filed 7-13-18; 8:45 am]

BILLING CODE 6560-50-P